Title 3—

The President

Executive Order 13215 of May 31, 2001

President's Information Technology Advisory Committee,

Further Amendment to Executive Order 13035, as Amended

By the authority vested in me as President by the Constitution and the laws of the United States of America, including the High-Performance Computing Act of 1991 (Public Law 102-194), as amended by the Next Generation Internet Research Act of 1998 (Public Law 105-305), and in order to extend the life of the President's Information Technology Advisory Committee so that it may continue to carry out its responsibilities, it is hereby ordered that Executive Order 13035 of February 11, 1997, as amended by Executive Orders 13092, 13113, and 13200 (Executive Order 13035, as amended), is further amended as follows:

Section 1. Section 1 of Executive Order 13035, as amended, is further amended by deleting the last sentence and inserting in lieu thereof: “Members appointed prior to June 1, 2001, shall serve until December 1, 2001, unless reappointed by the President. Members appointed or reappointed on or after June 1, 2001, shall serve for no more than 2 years from the date of their appointment, unless their period of service is extended by the President. The President shall designate two co-chairs from among the members of the Committee. A co-chair may serve for a term of 2 years or until the end of his or her service as a member of the Committee, whichever is the shorter period.”

Sec. 2. Section 4(b) of Executive Order 13035, as amended, is further amended by deleting “June 1, 2001,” and inserting in lieu thereof: “June 1, 2003.”

B

THE WHITE HOUSE,

May 31, 2001.

[FR Doc. 01-14319

Filed 6-4-01; 8:45 am]

Billing code 3195-01-P